DEPARTMENT OF ENERGY

Federal Energy Regulatory Commission

Combined Notice of Filings #1

Take notice that the Commission received the following electric corporate filings:

Docket Numbers: EC15-164-000.

Applicants: Alta Windpower Development, LLC, Cameron Ridge, LLC, Chandler Wind Partners, LLC, Coso Geothermal Power Holdings, LLC, Foote Creek II, LLC, Foote Creek III, LLC, Foote Creek IV, LLC, Oak Creek Wind Power, LLC, ON Wind Energy LLC, Pacific Crest Power, LLC, Ridge Crest Wind Partners, LLC, Ridgetop Energy, LLC, Sagebrush, a California partnership, Terra-Gen Dixie Valley, LLC, Terra-Gen Energy Services, LLC, TGP Energy Management, LLC, Victory Garden Phase IV, LLC, San Gorgonio West Winds II, LLC.

Description: Application for Authorization for Disposition of Jurisdictional Facilities and Request for Expedited Action of Alta Windpower Development, LLC, et. al.

Filed Date: 7/7/15.

Accession Number: 20150707-5118.

Comments Due: 5 p.m. ET 7/28/15.

Take notice that the Commission received the following electric rate filings:

Docket Numbers: ER13-107-009.

Applicants: South Carolina Electric & Gas Company.

Description: Compliance filing: Order 1000 Regional Compliance filing 7-6-15 to be effective 4/19/2013.

Filed Date: 7/6/15.

Accession Number: 20150706-5188.

Comments Due: 5 p.m. ET 7/27/15.

Docket Numbers: ER15-2113-000.

Applicants: Louisville Gas and Electric Company.

Description: § 205(d) Rate Filing: Att I Revision NITS Customers to be effective 7/8/2015.

Filed Date: 7/7/15.

Accession Number: 20150707-5075.

Comments Due: 5 p.m. ET 7/28/15.

Docket Numbers: ER15-2114-000.

Applicants: PJM Interconnection, L.L.C., Transource West Virginia, LLC.

Description: § 205(d) Rate Filing: Transource West Virginia submits Attachment H Formula Rate Template & Protocols to be effective 9/5/2015.

Filed Date: 7/7/15.

Accession Number: 20150707-5116.

Comments Due: 5 p.m. ET 7/28/15.

Take notice that the Commission received the following electric reliability filings:

Docket Numbers: RR15-2-002.

Applicants: North American Electric Reliability Corporation.

Description: Compliance Filing of the North American Electric Reliability Corporation and Petition for Approval of Rules of Procedure Revisions.

Filed Date: 7/6/15.

Accession Number: 20150706-5277.

Comments Due: 5 p.m. ET 7/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2015.
Nathaniel J. Davis, Sr.,
Deputy Secretary.

[FR Doc. 2015-17013 Filed 7-10-15; 8:45 am]

BILLING CODE 6717-01-P